DEPARTMENT OF HEALTH AND HUMAN SERVICES

Centers for Disease Control and Prevention

[30Day-73-03]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503, or by fax to (202) 395-6974. Written comments should be received within 30 days of this notice.

Proposed Project: The Second Injury Control and Risk Survey (ICARIS 2) Phase 2—New—The National Center for Injury Prevention and Control (NCIPC), Centers for Disease Control and Prevention (CDC). This project will use data from a telephone survey to measure injury-related risk factors and guide injury prevention and control priorities including those identified as priorities in Healthy People 2010 objectives for the nation. Injuries are a major cause of premature death and disability with associated economic costs of over 150 billion dollars in lifetime costs for persons injured each year. Healthy People 2010 objectives and the recent report from the Institute of Medicine, Reducing the Burden of Injury, call for reducing this toll.

In addition to national efforts, NCIPC funds injury control prevention programs at the state and local levels. These programs need data both to establish their prevention priorities and monitor their performance. The use of outcome data (e.g., fatal injuries) for measuring program effectiveness is problematic because cause-specific events are relatively rare and because data on critical risk factors (e.g., was a helmet worn in a bike crash or was a smoke detector present at a fatal fire?) are often missing. Because these risk factors are early in the causal chain of injury, they are what injury control programs target to prevent injuries. Accordingly, monitoring the level of injury risk factors in a population can help programs set priorities and evaluate interventions.

The first Injury Control and Risk Factor Survey (ICARIS), conducted in 1994, was a random digit dial telephone survey that collected injury risk factor and demographic data on 5,238 English- and Spanish-speaking adults (greater than or equal to 18 years old) in the United States. Proxy data were collected on 3,541 children <15 years old. More than a dozen peer-reviewed scientific reports have been published from the ICARIS data on subjects including dog bites, bicycle helmet use, residential smoke detector usage and fire escape practices, attitudes toward violence, suicidal ideation and behavior, and compliance with pediatric injury prevention counseling.

ICARIS-2, a national telephone survey about injury, which began in the summer of 2000, has collected data on more than 8,700 of the targeted 10,200 respondents to date. The first phase of the survey was initiated as a means for monitoring the injury risk factor status of the nation at the start of the millennium. The second phase of the survey is needed to expand knowledge in areas investigators could not fully explore, previously. By using data collected in ICARIS as a baseline, data collected in ICARIS-2 Phase-2 will be used along with data currently being collected (ICARIS-2 Phase-1) to measure changes and gauge the impact of injury prevention policies. The ICARIS-2 surveys may also serve as the only readily available source of data to measure several of the Healthy People 2010 injury prevention objectives. In order to more fully monitor injury risk factors and selected year Healthy People 2010 injury objectives, as well as evaluate the effectiveness of injury prevention programs, the second phase (ICARIS-2 Phase-2) of the current national telephone survey on injury risk is being implemented. The only cost to the respondents is the time involved to complete the survey. The estimated annualized burden is 1521.

Form/Respondent category | Number of respondents | Frequency of response | Average burden per Response (in hours)
Screening:
Ineligible Households plus Nonhouseholds | 2800 | 1 | 1/60
Unable to reach respondent, 8 attempts | 1000 | 4 | 6/60
Refusals—Screener | 3150 | 1 | .5/60
CATI Survey Instrument:
Refusals—CATI | 900 | 1 | 1.5/60
Partial Interview | 150 | 1 | 10/60
Completed Interviews | 4000 | 1 | 15/60

Dated: October 17, 2003.
Gaylon D. Morris,
Acting Director, Executive Secretariat, Centers for Disease Control and Prevention.

[FR Doc. 03-26986 Filed 10-24-03; 8:45 am]

BILLING CODE 4163-18-P